DEPARTMENT OF STATE

[Public Notice: 7563]

Culturally Significant Objects Imported for Exhibition

Determinations: “5,000 Years of Chinese Jade Featuring Selections From the National Museum of History, Taiwan and the Arthur M. Sackler Gallery, Smithsonian Institution” Exhibition

ACTION: Notice, correction.

SUMMARY: On July 29, 2011, notice was published on pages 45646 and 45647 of the Federal Register (volume 76, number 146) of determination made by the Department of State pertaining to the exhibition “5,000 Years of Chinese Jade Featuring Selections From the National Museum of Taiwan and the Arthur M. Sackler Gallery, Smithsonian Institution.” The referenced notice is corrected as to the name of the exhibition, which is “5,000 Years of Chinese Jade Featuring Selections from the National Museum of History, Taiwan and the Arthur M. Sackler Gallery, Smithsonian Institution.” The exhibition or display of the exhibit objects is at the San Antonio Museum of Art, San Antonio, TX, from on or about October 1, 2011, until on or about February 19, 2012, and at possible additional exhibitions or venues yet to be determined. I have ordered that Public Notice of the correction of the name be published in the Federal Register.

FOR FURTHER INFORMATION CONTACT: For further information, including a list of the exhibit objects, contact Julie Simpson, Attorney-Adviser, Office of the Legal Adviser, U.S. Department of State (telephone: 202-632-6467). The mailing address is U.S. Department of State, SA-5, L/PD, Fifth Floor (Suite 5H03), Washington, DC 20522-0505.

Dated: August 16, 2011.
J. Adam Ereli,
Principal Deputy Assistant Secretary, Bureau of Educational and Cultural Affairs, Department of State.

[FR Doc. 2011-21366 Filed 8-19-11; 8:45 am]

BILLING CODE 4710-05-P